DEPARTMENT OF LABOR

Employment and Training Administration

Workforce Investment Act: Indian and Native American Employment and Training Programs; Solicitation for Grant Applications: Final Grantee Designation Procedures for Program Years 2002 and 2003

AGENCY: Employment and Training Administration, Labor.

ACTION: Notice of final designation procedures for grantees.

SUMMARY: This document contains the procedures by which the Department of Labor (DOL) will select and designate service providers for Program Years 2002 and 2003 for Indian and Native American Employment and Training Programs under section 166 of the Workforce Investment Act (WIA). Grantees or potential eligible providers participating in Public Law 102-477 Demonstration Projects must apply for designation if they wish to receive or continue to receive WIA funds for Program Years 2002 and 2003. Public Law 102-477 allows Federally-recognized tribes to consolidate their formula-funded employment and training and related dollars under a single service plan administered by the Bureau of Indian Affairs. This notice provides the information that applicants need to submit appropriate requests for designation.

DATES: Notices of Intent must be received in the Department March 22, 2002. All applicants are advised that U.S. mail delivery in the Washington, DC area has been erratic due to the recent concerns involving anthrax contamination. All applicants must take this into consideration when preparing to meet the application deadline, as you assume the risk for ensuring a timely submission; that is, if because of these mail problems, the Department does not receive an application or receives it too late to give it proper consideration, even if it was timely mailed, the Department is not required to consider the application.

ADDRESSES: Send a signed original and two copies of the Notice of Intent to Mr. James C. DeLuca, Chief, Division of Indian and Native American Programs, Room N-4641 FPB ATTN: MIS Desk, U.S. Department of Labor, 200 Constitution Avenue, NW., Washington, DC 20210.

FOR FURTHER INFORMATION: We recommend that you confirm receipt of this submission by contacting Ms. Andrea T. B. Brown, U.S. Department of Labor, Division of Indian and Native American Programs, telephone number (202) 693-3736 [this is not a toll-free number].

SUPPLEMENTARY INFORMATION:

Workforce Investment Act; Indian and Native American Programs; Final Designation Procedures for Program Years 2002 and 2003

Table of Contents

Introduction: Scope and Purpose of This Notice

I. General Designation Principles

II. Waiver Provisions

III. Notice of Intent

IV. Use of Panel Review Procedure

V. Notification of Designation/Nondesignation

VI. Special Designation Situations

VII. Designation Process Glossary

VIII. Waivers of Competition

Introduction: Scope and Purpose of This Notice

Section 166 of the Workforce Investment Act (WIA) authorizes programs to serve the employment and training needs of Indians and Native Americans.

Requirements for these programs are set forth in WIA section 166 and its regulations, codified at 20 CFR part 668, published at 65 FR 49294, 49435 (August 11, 2000). The specific eligibility and application requirements for designation are set forth at 20 CFR Part 668, Subpart B. It should be noted that community and faith-based organizations are eligible to apply for these grants, but only if they are Native-American controlled as defined in this announcement. Under these requirements, the Department of Labor (DOL) selects entities for funding for a two-year period. Designated service providers will be funded annually during the designation period, contingent upon all other grant award requirements being met and the continuing availability of Federal funds.

The Notice of Intent (see Part III, below) must be submitted by all applicants. Any organization interested in being designated as a Native American section 166 grantee should be aware of and comply with the procedures in all parts of this SGA.

The amount of WIA section 166 funds to be awarded to designated Native American organizations is determined under the procedures set by 20 CFR 668.296.

I. General Designation Principles

The following general principles reflect the WIA and regulatory language which underpin the designation process. These principles do not, in any way, constitute evaluation criteria for review of applications. Those criteria appear exclusively in Part IV below:

(1) All applicants for designation must comply with the requirements found at 20 CFR part 668, subpart B, which contains the basic eligibility, application, and designation requirements. Potential applicants should be aware that a non-incumbent entity must have a population within the designated geographic service area which would provide formula funding under 20 CFR 668.296(b) [and 20 CFR 668.440(a) if the entity is eligible to receive Supplemental Youth Services funding] in the amount of at least $100,000 per program year. See 20 CFR 668.200(a)(3). Federally-recognized tribes wishing to participate in the demonstration under Public Law 102-477 must have a service area and population which generates at least $20,000 per year in total section 166 formula funds. For those tribes wishing to participate in the “477” demonstration, exceptions may be made to this $20,000 WIA designation threshold if: (1) The total resources to be included in the “477 plan” exceed $100,000; (2) the amount of section 166 formula funding is close to the $20,000 limit; and (3) the plan is otherwise approvable. Determinations of this exception (and resultant WIA designation or non-designation) will be made on a case-by-case basis.

(2) High unemployment, lack of training, lack of employment opportunity, societal and other barriers exist within predominantly INA communities and among INA groups residing in other communities. The underlying philosophy of this program is that Indians and Native Americans are best served by a responsible Indian and Native American organization directly representing them, with the demonstrated knowledge and ability to coordinate resources within the respective communities. The WIA and the implementing regulations (20 CFR 668.210) establish priorities for Indian and Native American organizations. Those priorities are the basis for the steps which will be followed in designating grantees.

(3) A Federally-recognized tribe, band or group on its reservation (including former reservation areas in Oklahoma), and Alaska Native entities defined in the Alaska Native Claims Settlement Act (ANCSA) (or consortia that include a tribe or an ANCSA entity) are given highest priority over any other organization if they have the capability to administer the program and meet all eligibility and regulatory requirements. This priority applies only to the areas over which the organizations have legal jurisdiction. See 20 CFR 668.210(a). Consistent with the holding in Narragansett Indian Tribe v. U.S. Department of Labor, [ALJ Case No. 2000-WIA-6 (12/20/2000) and ARB Case No. 01-027 (07/20/2001)], we interpret 20 CFR 668.210(a) as requiring that we give priority only to a Federally-recognized tribe on its reservation, to a Federally-recognized Oklahoma tribe over its members on its former reservation, and to an Alaska Native Corporation (or its designated entity) within its corporation area as defined under ANCSA.

In the event that such a tribe, band or group (including an Oklahoma and/or Alaska Native entity) is not designated to serve its reservation or geographic service area, the DOL will consult with the governing body of such entities when designating alternative service deliverers. Such consultation may be accomplished in writing, in person, or by telephone, as time and circumstances permit. When it is necessary to select alternative service deliverers, the Grant Officer will, in accordance with 20 CFR 668.280, whenever possible, accommodate the views and recommendations of the INA community leaders and the Division of Indian and Native American Programs (DINAP). Whenever possible, the Grant Officer will attempt to select an experienced alternative service provider(s) from a contiguous area. However, if necessary, the Grant Officer may divide the service area between two or more entities and/or, if necessary, select an alternative service provider from a non-contiguous area. If time permits, the Grant Officer will solicit the views of other Federally-recognized tribal entities within the service area, if any. See 20 CFR 668.210(b).

(4) In designating Native American section 166 grantees for areas not covered by the highest priority in accordance with (3) above, DOL will designate Indian and Native American-controlled organizations as service providers. This would include the group referred to in (3) applying for off-reservation areas. As noted in (3) above, when vacancies occur, the Grant Officer will select alternates in accordance with 20 CFR 668.280.

(5) Incumbent and non-incumbent applicants seeking additional areas are expected to clearly demonstrate a working knowledge of the community that they plan to serve, including available resources, resource utilization and acceptance by the service population.

(6) Special employment and training services for Indian and Native American people have been provided through an established service delivery network for the past year under the Workforce Investment Act, and for 25 years under the authority of JTPA section 401 and its predecessor, section 302 of the Comprehensive Employment and Training Act (CETA). The DOL intends to exercise its designation authority to both preserve the continuity of services to the INA population and to preserve the viability of existing geographic service areas by rejecting applications for service areas which would not satisfy 20 CFR 668.200(a)(3).

(7) The Grant Officer will accord some preference for those Native American organizations which have demonstrated their capability to deliver employment and training services within an established geographic service area. However, this preference does not preclude the selection of a new grantee that clearly demonstrates a significant superiority in providing services in another service area. Such preference will be determined through input and recommendations from the Chief of DOL's Division of Indian and Native American Programs (DINAP) and DOL's Division of Federal Assistance (DFA). This preference is reflected in the language of Part IV which provides that an incumbent will be required to compete for continuation as a grantee only where the Grant Officer determines that a competitor has demonstrated the potential for superiority over the incumbent.

(8) In preparing applications for designation, applicants should bear in mind that the purpose of section 166 of WIA is “to support employment and training activities for Indian, Alaska Native, and Native Hawaiian individuals in order—

(A) to develop more fully the academic, occupational, and literacy skills of such individuals;

(B) to make such individuals more competitive in the workforce; and

(C) to promote the economic and social development of Indian, Alaska Native, and Native Hawaiian communities in accordance with the goals and values of such communities.”

It should be noted that these “General Designation Principles” are not intended as “hard and fast rules” which must be followed to the letter in any and all designation activities. In particular, they do not supplement or supersede the criteria set by Part IV, below. In cases of competition between or among Native American groups, the Grant Officer's primary consideration is the protection of Federal funds, followed closely by the mandate to select the entity best able to provide the required services to the individuals residing in the given service delivery area. These principles in no way expand the rights of incumbent and potential grantees under the existing statute and regulations.

II. Waiver Provisions

WIA section 166(c)(2) states:

The competition for grants, contracts, or cooperative agreements conducted under paragraph (1) shall be conducted every 2 years, except that if a recipient of such a grant, contract, or agreement has performed satisfactorily, the Secretary may waive the requirement for such competition on receipt from the recipient of a satisfactory 2-year program plan for the succeeding 2-year period of the grant, contract, or agreement.

Because a “full competition” for the first designation under WIA was held two years ago, the Department is exercising this waiver option for this two-year designation period. All incumbent grantees that have performed “satisfactorily,” both programmatically and administratively, under their present grant may receive a waiver from competition for the PY 2002-2003 designation period. The responsibility review criteria at 20 CFR 667.170 will serve as the baseline criteria for determining “satisfactory performance,” although the seriousness of the factors supporting a finding of unsatisfactory performance will be less than that required to support a finding of non-responsibility, and other factors such as program performance may be involved. As in previous designation cycles under the Job Training Partnership Act where a waiver option has been utilized by the Department, the minimum performance period needed to qualify a grantee for a waiver of competition is two consecutive program years.

Incumbent grantees will not have to request this waiver. Based on the standards described above, the Department has determined which grantees qualify for a waiver, and has included the list of those grantees in Part VIII of this announcement. Incumbent grantees, including Federally-recognized tribes serving areas outside their reservations, which are not granted waivers will be subject to the competitive process published in this solicitation.

Incumbent grantees receiving a waiver will be required to submit only a properly completed SF-424 for their currently-designated service area(s), postmarked by February 1, 2002, or fifteen days from the date of publication of this solicitation, whichever is later, and a certification that their applicant organization's status has not changed from its original designation (see Part III.2.A).

Non-incumbent entities that qualify for priority designation (see Part I.(3) above) may apply for and be designated to serve their priority service area (i.e., reservation), providing these applicants are otherwise eligible under the regulations at 20 CFR 668.200(a)(3). For those Federally-recognized tribes (or consortia thereof) wishing to participate in the demonstration under Public Law 102-477 and unable to qualify under the $100,000 funding ceiling, a “477 plan” must have been received by the Bureau of Indian Affairs before the March 1, 2002 designation determination date set forth at 20 CFR 668.260(a).

Incumbent tribes and organizations that have been participating in the demonstration under Public Law 102-477 will be granted waivers from competition, unless they have outstanding and serious unresolved issues with the Department(s) providing their “477 funding” which would affect their continued WIA designation. Otherwise, “477 tribes” whose legal status has not changed need only submit a properly completed SF-424 to be designated for the PY 2002-2003 funding period.

III. Notice of Intent

1. Dates and Address for Submittal

Send a signed original and two copies of the completed Notice of Intent (NOI) to Mr. James C. DeLuca, Chief, Division of Indian and Native American Programs, Room N-4641 FPB, ATTN: MIS Desk, U.S. Department of Labor, 200 Constitution Ave., NW., Washington, DC 20210.

Notices of Intent that comply with the requirements of this solicitation must be received by or postmarked by February 1, 2002, or 15 days from date of publication of this solicitation in the Federal Register, whichever is later. NOI's not received by the deadline will be accepted only with an official, U.S. Postal Service postmark indicating timely submission. Dates indicating submission by private express delivery service or by metered mail are unacceptable as proof of submission. All applicants are advised that U.S. mail delivery in the Washington, DC area has been erratic due to the recent concerns involving anthrax contamination. All applicants must take this into consideration when preparing to meet the application deadline, as you assume the risk for ensuring a timely submission; that is, if because of these mail problems, the Department does not receive an application or receives it too late to give it proper consideration, even if it was timely mailed, the Department is not required to consider the application.

When more than one eligible organization applies to provide services in the same area, a review of the applicants will be conducted and, when necessary, a competitive selection will be made. Competing applicants will be notified of such competition as soon as possible, and may submit revised Notices of Intent to be received by the Department or postmarked no later than February 15, 2002, or a date 15 days after the applicant is notified of the competition. At a minimum, revised Notices of Intent should include the information required in Part A as applicable and Part B. All Notices of Intent must be submitted to the Chief of DINAP at the above address.

2. Submission of Notice of Intent Via E-Mail

Due to the erratic mail delivery in the Washington, DC area, the applicant has the option of submitting its Notice of Intent via e-mail, sboyd@doleta.gov. However, due to the high volume of applications, the return receipt option must be utilized in order to verify receipt of the application. Should the applicant choose to e-mail the Notice of Intent, an originally-signed signature sheet, along with a copy of the applicant's e-mail/written verification of receipt, must follow via overnight mail. E-mailed Notices of Intent will be accepted in Microsoft WORD or WordPerfect only.

3. Instructions for Obtaining Return Receipt

Before sending the e-mail, click on “file,” go to “properties, return notification,” and finally click on “mail receipt.” The sender will automatically receive an e-mail notification when the e-mail is opened. Please note that faxed applications will not be accepted.

4. Notice of Intent Content and Procedure

The information required in Part A must be provided by all applicants, except for those incumbent Federally-recognized tribes participating in the demonstration under Public Law 102-477 whose status has not changed. Additionally, competing organizations will be required, if notified by the Grant Officer, to provide the information in Part B.

Part A

1. A completed SF-424, “Application for Federal Assistance,” signed by the authorized signatory official. For those current grantees receiving a waiver under WIA section 166(c)(2), the SF-424, accompanied by a statement that the designated organization remains intact, is all that must be submitted. Consortium grantees, even if receiving a waiver, must also submit either an updated consortium agreement or a statement signed by all members indicating that the consortium remains intact. Applicants receiving a waiver and not applying for additional service area(s) need not complete items 2 through 6;

2. An identification of the applicant's legal status, including articles of incorporation or consortium agreement as appropriate;

3. A specific description of the territory being applied for, by State(s), counties, reservation(s) or similar area, or service population;

4. A very brief summary, including the funding source, contact person and phone number of the employment and training or human resource development programs serving Native Americans that the entity currently operates or has operated within the previous two-year period;

5. A brief description of the planning process used by the entity, including involvement of the governing body and local employers;

6. Evidence to establish an entity's ability to administer funds under 20 CFR 668.220 and 668.230 which should at a minimum include:

(a) A statement that the organization is in compliance with the Department's debt management procedures; and

(b) A statement that fraud or criminal activity has not been found in the organization, or a brief description of the circumstance where it has been found and a description of resolution, corrective action and current status; and

(c) A narrative demonstrating that an entity has or can acquire the necessary program and management personnel to safeguard federal funds and effectively deliver program services that support the purposes of the Workforce Investment Act; and

(d) If not otherwise provided, a narrative demonstrating that an entity has successfully carried out or has the ability to successfully carry out activities that will strengthen the ability of the individuals served to obtain or retain unsubsidized employment, including the past two-year history of publicly funded grants/contracts administered including identification of the fund source and a contact person.

In addition, grantees not receiving a waiver as the result of failure to perform satisfactorily (as opposed to not having been in operation for two full, consecutive years) must specifically enumerate and explain actions taken to correct deficiencies identified by the Department, including specific time frames for completion. The Grant Officer may require additional or clarifying information or action, including a site visit, before designating those applicants.

Part B

If the Grant Officer determines that there is competition for all or part of a given service area, the following information will be required of the competing entities:

(1) Evidence that the entity represents the community proposed for services such as: Demonstration of support from Native American-controlled organizations, State agencies, or other entities with specific knowledge of the applicant's operational capability; and

(2) Submission of a service plan and other information expanding on the information required at Part A which the applicant feels can strengthen its case, including information on any unresolved or outstanding administrative problems.

Exclusive of charts or graphs and letters of support, the additional information submitted to augment the Notice of Intent in a situation involving competition should not exceed 75 pages of double-spaced, unreduced type.

Incumbent and non-incumbent Federally-recognized tribes, and Hawaiian and Alaska Native entities, need not submit evidence of support regarding their own reservations or areas of legal jurisdiction. However, such entities are required to provide such evidence for any area which they wish to serve beyond their reservation boundaries, or their Congressionally-mandated or Federally-established service areas.

All applicants for non-contiguous geographic service areas must prepare a separate, complete Notice of Intent (including the above-referenced supplementary information if applicable) for each such area.

An applicant whose Notice of Intent contains all of the information otherwise required in Part B need not supplement the NOI.

IV. Use of Panel Review Prodecure

An initial review of all applicants, conducted by DINAP and with the concurrence of the Grant Officer, will identify priority applicants and recommend those areas requiring further competition. In areas under competition, a formal panel review process will be utilized under the following circumstances:

(1) When one or more new applicants, none qualifying for the highest priority for the requested area, can demonstrate the potential for superiority over the non-priority incumbent organization; or

(2) When two or more applicants, none qualifying for the highest priority, request an area and the incumbent organization fails to apply for designation, or is required to compete.

When further competition occurs, the Grant Officer will convene a review panel to score the information submitted with the Notice of Intent (Part A and B). This panel will include individuals with knowledge of or expertise in programs dealing with Indians and Native Americans. The purpose of the panel is to review and evaluate an organization's potential, based on its application (including the supplemental information required in Part B), to provide services to a specific Native American community, to rate the proposals in accordance with the rating criteria described below and to make recommendations to the Grant Officer. The panel will be provided the information described in the Notice of Intent.

It is DOL's policy that no information affecting the panel review process will be solicited or accepted after the deadlines for receipt of applications set in this Notice. All information provided before these deadlines must be in writing.

This policy does not preclude the Grant Officer from requesting additional information independent of the panel review process.

During the review, the panel will not give weight to undocumented assertions. Any information must be supported by adequate and verifiable documentation, e.g., supporting references must contain the name of the contact person, an address, and telephone number. Panel recommendations are advisory to the Grant Officer.

The factors listed below will be considered in evaluating the applicants approach to providing services.

Established Native American-controlled organizations | Maximum allowable points
1. (a) Previous experience or demonstrated capabilities in successfully operating an employment and training program established for and serving Indians and Native Americans | 30 points.
(b) Previous experience in operating or coordinating with other human resources development programs serving Indians or Native Americans | 10 points.
(c) Approach to providing services, including identification of the training and employment problems and needs in the requested area, and approach to addressing such needs | 10 points.
2. Demonstration of the ability to maintain continuity of services to Indian or Native American participants consistent with those previously provided in the community | 10 points.
3. (a) Description of the entity's planning process and demonstration of involvement with the INA community | 5 points.
(b) Demonstration of involvement with local employers within the service area, and with local Workforce Investment Boards and Youth Councils, etc | 5 points.
4. Demonstration of coordination and linkages with Indian and non-Indian employment and training resources within the community, including, but not limited to, community and faith-based organizations and One-Stop systems (as applicable), to eliminate duplication of effort | 15 points.
5. Demonstration of support and recognition by the Native American community and service population, including local tribes and adjacent Indian organizations and the client population to be served | 15 points.
Total | 100 points.

V. Notification of Designation/Nondesignation

The Grant Officer will make the final designation decision giving consideration to the following factors: the review panel's recommendation, in those instances where a panel is convened; input from DINAP, other offices within the Employment and Training Administration, and the DOL Office of the Inspector General; and any other available information regarding the organization's financial and operational capability, and responsibility. The Grant Officer will select the entity that demonstrates the ability to produce the best outcomes for its customers. If at all possible, designation decisions will be made by the March 1, 2002 deadline, and will be provided to applicants as follows:

(1) Designation Letter. The designation letter signed by the Grant Officer will serve as official notice of an organization's designation. The letter will include the geographic service area for which the designation is made. It should be noted that the Grant Officer is not required to adhere to the geographical service area requested in the Notice of Intent. The Grant Officer may make the designation applicable to all of the area requested, a portion of the area requested, or if acceptable to the designee, more than the area requested.

(2) Conditional Designation Letter. Conditional designations will include the nature of the conditions, the actions required to be finally designated and the time frame for such actions to be accomplished. Failure to satisfy such conditions may result in a withdrawal of designation. Organizations with no prior grant history with the Department may be conditionally designated pending an on-site review and/or a six-month assessment of program progress.

(3) Non-Designation Letter. Any organization not designated, in whole or in part, for a geographic service area requested will be notified formally of the Non-Designation and given the basic reasons for the determination. An applicant for designation which is refused such designation, in whole or in part, will be afforded the opportunity to appeal its Non-Designation as provided at 20 CFR 668.270.

VI. Special Designation Situations

(1) Alaska Native Entities. DOL has established geographic service areas for Alaska Native employment and training grantees based on the following: (a) the boundaries of the regions defined in the Alaska Native Claims Settlement Act (ANCSA); (b) the boundaries of major sub-regional areas where the primary provider of human resource development-related services is an Indian Reorganization Act (IRA)-recognized tribal council; and (c) the boundaries of the one Federal reservation in the State. Within these established geographic service areas, DOL will designate the primary Alaska Native-controlled human resource development services provider or an entity formally selected by such provider. In the past, these entities have been regional nonprofit corporations, IRA-recognized tribal councils, and the tribal government of the Metlakatla Indian Community. DOL intends to follow these principles in designating Native American grantees in Alaska for Program Years 2002 and 2003.

(2) Oklahoma Indians. DOL has established a service delivery system for Indian employment and training programs in Oklahoma based on a preference for Oklahoma Indian tribes and organizations to serve portions of the State. Generally, service areas have been designated geographically as countywide areas. In cases in which a significant portion of the land area of an individual county lies within the traditional jurisdiction(s) of more than one tribal government, the service area has been subdivided to a certain extent on the basis of tribal identification information contained in the most recent Federal Decennial Census of Population. Wherever possible, arrangements mutually satisfactory to grantees in adjoining or overlapping geographic service areas will be honored by DOL. Where mutually satisfactory arrangements cannot be made, DOL will designate and assign service area to Native American grantees in a manner which is consistent with WIA and that will preserve the continuity of services and prevent unnecessary fragmentation of the programs.

VII. Designation Process Glossary

In order to ensure that all interested parties have the same understanding of the process, the following definitions are provided:

(1) Indian or Native American-Controlled Organization. This is defined as any organization with a governing board, more than 50 percent of whose members are Indians or Native Americans. Such an organization can be a tribal government, Native Alaska or Native Hawaiian entity, consortium, or public or private nonprofit agency. For the purpose of designation determinations, the governing board must have decision-making authority for the WIA section 166 program. It should be noted that, under WIA section 166(d)(2)(B), individuals who were eligible to participate under section 401 of JTPA on August 6, 1998, will be eligible to participate under WIA. Organizations serving such individuals will be considered “Indian controlled” for WIA section 166 purposes if they meet the criteria of this paragraph.

(2) Service Area. This is defined as the geographic area described as States, counties, and/or reservations for which a designation is made. In some cases, it will also be defined in terms of the specific population to be served. The service area is identified by the Grant Officer in the formal designation letter. Grantees must ensure that all eligible population members have equitable access to employment and training services within the service area.

(3) Incumbent Organizations. Organizations which are current grantees under WIA section 166, during PY 2001, are considered incumbent grantees for the existing service area, for the purposes of WIA.

VIII. Waivers of Competition

Alabama

Inter-Tribal Council of Alabama

Poarch Band of Creek Indians

Alaska

Aleutian-Pribilof Islands Association

Association of Village Council Presidents

Bristol Bay Native Association

Central Council of Tlingit and Haida Indian Tribes of Alaska

Chugachmiut

Cook Inlet Tribal Council, Inc.

Kawerak, Incorporated

Kenaitze Indian Tribe

Kodiak Area Native Association

Maniilaq Manpower, Inc.

Metlakatla Indian Community

Orutsararmuit Native Council

Tanana Chiefs Conference, Inc.

Arizona

Affiliation of Arizona Indian Centers, Inc.

American Indian Association of Tucson

Colorado River Indian Tribes

Gila River Indian Community

Hualapai Reservation and Trust Land

Hopi Tribal Council

Native Americans for Community Action, Inc.

The Navajo Nation

Phoenix Indian Center, Inc.

Quechan Indian Tribe

Salt River/Pima-Maricopa Indian Community

San Carlos Apache Tribe

Tohono O'Odham Nation

White Mountain Apache Tribe

Arkansas

American Indian Center of Arkansas, Inc.

California

California Indian Manpower Consortium

Candelaria American Indian Council

Indian Human Resources Center, Inc.

Northern California Indian Development Council, Inc.

Southern California Indian Center, Inc.

United Indian Nations, Inc.

Ya-Ka-Ama Indian Education & Development

Colorado

Denver Indian Center, Inc.

Southern Ute Indian Tribe

Ute Mountain Ute Tribe

Delaware

Nanticoke Indian Association, Inc.

Florida

Florida Governor's Council on Indian Affairs

Miccosukee Corporation

Seminole Tribe of Florida

Hawaii

Alu Like, Inc.

Idaho

Nez Perce Tribe

Shoshone-Bannock Tribes

Kansas

Mid-American All Indian Center, Inc.

United Tribes of Kansas and Southeast Nebraska, Inc.

Louisiana

Inter-Tribal Council of Louisiana, Inc.

Maine

Penobscot Nation

Massachusetts

Mashpee-Wampanoag Indian Tribal Council, Inc.

North American Indian Center of Boston, Inc.

Michigan

Grand Traverse Band of Ottawa and Chippewa

Inter-Tribal Council of Michigan, Inc.

Michigan Indian Employment and Training Services, Inc.

The Pokagon Band of Potawatomi Indians

Sault Ste. Marie Tribe of Chippewa Indians

Southeastern Michigan Indians, Inc.

Minnesota

American Indian Opportunities Industrialization Center

Fond Du Lac Reservation Business Council

Leech Lake Reservation Tribal Council

Mille Lacs Band of Chippewa Indians

Minneapolis American Indian Center

Red Lake Tribal Council

White Earth Reservation Business Council

Mississippi

Mississippi Band of Choctaw Indians

Missouri

American Indian Council, Inc.

Montana

Assiniboine & Sioux Tribes

Blackfeet Tribal Business Council

Confederated Salish & Kootenai Tribes

Crow Tribe of Indians

Fort Belknap Indian Community

Northern Cheyenne Tribe

Nebraska

Indian Center, Inc.

Omaha Tribe of Nebraska

Winnebago Tribe of Nebraska

Nevada

Inter-Tribal Council of Nevada, Inc.

Las Vegas Indian Center, Inc.

Shoshone-Paiute Tribes

New Jersey

Powhatan Renape Nation

New Mexico

Alamo Navajo School Board, Inc.

All Indian Pueblo Council, Inc.

Eight Northern Indian Pueblos Council

Five Sandoval Indian Pueblos

Jicarilla Apache Tribe

Mescalero Apache Tribe

National Indian Youth Council

Pueblo of Acoma

Pueblo of Laguna

Pueblo of Taos

Pueblo of Zuni

Ramah Navajo School Board, Inc.

Santa Clara Indian Pueblo

Santo Domingo Tribe

New York

American Indian Community House, Inc.

Native American Community Services of Erie & Niagara Counties

Native American Cultural Center, Inc.

St. Regis Mohawk Tribe

North Carolina

Cumberland County Association for Indian People

Eastern Band of Cherokee Indians

Guilford Native American Association

Haliwa-Saponi Indian Tribe, Inc.

Lumbee Regional Development Association, Inc.

Metrolina Native American Association

North Carolina Commission of Indian Affairs

North Dakota

Spirit Lake Sioux Tribe

Standing Rock Sioux Tribe

Turtle Mountain Band of Chippewa Indians

United Tribes Technical College

Ohio

North American Indian Cultural Center, Inc.

Oklahoma

Absentee Shawnee Tribe of Oklahoma

American Indian Education, Training & Employment Center, Inc.

Cherokee Nation of Oklahoma

Cheyenne-Arapaho Tribes of Oklahoma

Chickasaw Nation

Choctaw Nation of Oklahoma

Citizen Potawatomi Nation

Comanche Indian Tribe

Delaware Tribe of Oklahoma

Four Tribes Consortium of Oklahoma

Inter-Tribal Council of N.E. Oklahoma

Kiowa Tribe of Oklahoma

Muscogee (Creek) Nation of Oklahoma

Osage Nation

Pawnee Tribe of Oklahoma

Ponca Tribe of Oklahoma

Seminole Nation of Oklahoma

Oregon

Confederated Tribes of Siletz Indians

Confederated Tribes of the Umatilla Indian Reservation

Confederated Tribes of Warm Springs

Organization of Forgotten Americans, Inc.

Pennsylvania

Council of Three Rivers, Inc.

Rhode Island

Rhode Island Indian Council, Inc.

South Carolina

South Carolina Indian Development Council, Inc.

South Dakota

Cheyenne River Sioux Tribe

Oglala Sioux Tribe

Rosebud Sioux Tribe

Sisseton-Wahpeton Sioux Tribe

United Sioux Tribes Development Corporation

Texas

Alabama-Coushatta Indian Tribal Council

Dallas Inter-Tribal Center

Ysleta Del Sur Pueblo/Tigua Indian Tribe

Utah

Indian Center Employment Services, Inc.

Ute Indian Tribe

Vermont

Abenaki Self-Help Association/New Hampshire Indian Council

Virginia

Mattaponi-Pamunkey-Monacan Consortium

Washington

American Indian Community Center

Colville Confederated Tribes

Lummi Indian Business Council

Makah Tribal Council

Seattle Indian Center, Inc.

The Tulalip Tribes

Western Washington Indian Employment and Training Program

Wisconsin

Ho-Chunk Nation

Lac Courte Oreilles Tribal Governing Board

Lac Du Flambeau Band of Lake Superior Chippewa

Menominee Indian Tribe of Wisconsin

Milwaukee Area American Indian Manpower Council, Inc.

Oneida Tribe of Indians of Wisconsin

Wisconsin Indian Consortium

Wyoming

Eastern Shoshone Tribe

Northern Arapaho Tribe

BILLING CODE 4510-30-P

Signed at Washington, DC, this 1st day of March, 2002.
Emily Stover DeRocco,
Assistant Secretary, Employment and Training Administration.

[FR Doc. 02-5487 Filed 3-6-02; 8:45 am]

BILLING CODE 4510-30-C